DEPARTMENT OF HEALTH AND HUMAN SERVICES

[Document Identifier OS-0990-New; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at (202) 395-5806.

Proposed Project: Cross-Site Evaluation of the Minority Serving Institutions' HIV/AIDS Demonstration Initiative and Capacity-building Project (New)—OMB No. 0990-NEW—Office of HIV/AIDS Policy.

Abstract: Although minority populations comprise only 30% of the U.S. population, they account for nearly 65% of the new AIDS cases. As one strategy to address this disparity, the U.S. Department of Health and Human Services Office of HIV/AIDS Policy (OHAP) implemented the Minority Serving Institutions' (MSI) HIV/AIDS Demonstration Initiative and Capacity-building Project in 7 colleges and universities serving diverse groups of Hispanic, African American, and Native American minority students. This cross-site evaluation of the project will assess changes among students in the 7 colleges over a two-year project period regarding: (1) Awareness and knowledge of risk factors and prevention methods for HIV/AIDS transmission; (2) the occurrence of high-risk behaviors; and (3) access to HIV/AIDS prevention, counseling, testing and referral services. Implementation challenges and lessons learned also will be identified. The data collected in this evaluation will provide information about how to most effectively implement HIV/AIDS interventions at MSIs; and can be used to assist the OHAP and other federal agencies in setting future priorities for HIV/AIDS prevention activities at MSIs, and potentially other educational institutions. The data will be collected through various methods and frequencies, including annual pre and post tests and surveys, and focus groups to MSI students; annual key informant interviews to MSI staff and community partners; and semi-annual outcome data reports and monthly progress reports completed by MSI staff.

Estimated Annualized Burden Table
Forms | Type of respondent | Number of respondents | Number of responses per respondent | Average burden (in hours) per response | Total burden hours
Annual Staff Key Informant Interview | MSI staff | 14 | 1 | 4 | 56
Monthly Progress Reports | MSI HIV staff | 14 | 12 | 1 | 168
Semi-Annual Reporting of Site Evaluation Findings | MSI HIV staff | 14 | 2 | 5 | 140
Annual Site Visit Partner Key Informant Interview | MSI community partners | 14 | 1 | 2 | 28
Pre- and Post-Surveys | Students | 1,000 | 2 | 1 | 2,000
Pre- and Post-Tests | Students | 420 | 2 | 15/60 | 210
Focus Groups/Interviews | Students | 50 | 1 | 1 | 50
Total |  | 1,526 |  |  | 2,652

Keith A. Tucker,
Office of the Secretary, Paperwork Reduction Act Clearance Officer.

[FR Doc. 2011-32729 Filed 12-21-11; 8:45 am]

BILLING CODE 4150-43-P